DEPARTMENT OF HEALTH AND HUMAN SERVICES

Centers for Medicare & Medicaid Services

[Document Identifier: CMS-10948]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by April 6, 2026.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier: __/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: New collection (Request for a new OMB control number); Title of Information Collection: Generic Clearance for the Collection of Medicare Current Beneficiary Survey (MCBS) Respondent “Pulse” Feedback; Use: This new request will allow the Centers for Medicare & Medicaid Services to efficiently utilize the MCBS to establish a new tool, the MCBS Pulse. This tool will establish a proactive, data-driven process that allows CMS to accomplish three goals: (1) Enhance operational efficiency by enabling decision-makers to obtain time-sensitive data points not available from other sources to inform program planning and development; (2) Add early design phase questionnaire testing capabilities by collecting rapid turnaround feedback on nascent questionnaire concepts; (3) Rapidly gather directional feedback from beneficiaries on emerging concerns for exploratory purposes and early-stage issue identification. Each MCBS Pulse survey will be brief and constrained in content, containing no more than five questions, that reflect an intentional prioritization of topics of greatest need to CMS stakeholders as well as a limitation of respondent burden and cost. Each individual MCBS Pulse survey will be incorporated into an existing MCBS round of data collection where it will be fielded for up to two weeks. The MCBS design includes three rounds per year, each lasting approximately 16 weeks. Given that each Pulse survey is exceptionally brief and fielded for only up to two weeks, CMS can conduct multiple Pulse surveys per round based on operational needs. Form Number: CMS-10948 (OMB control number: 0938-New); Frequency: Occasionally; Affected Public: Individuals or Households; Number of Respondents: 31,117; Total Annual Responses: 31,117; Total Annual Hours: 1,026. (For policy questions regarding this collection contact William Long at 410-786-7927.)

William N. Parham, III,
Director, Division of Information Collections and Regulatory Impacts, Office of Strategic Operations and Regulatory Affairs.

[FR Doc. 2026-02191 Filed 2-2-26; 8:45 am]

BILLING CODE 4120-01-P